DEPARTMENT OF JUSTICE

Notice of Lodging of Consent Decrees Under the Comprehensive Environmental Response, Compensation, and Liability Act

Notice is hereby given that on January 28, 2011, two Consent Decrees in United States v. Stephen C. Lyon, et al., Civil Action No. 1: 07-CV-00491-LJO-MJS, were lodged with the United States District Court for the Eastern District of California, Fresno Division which, together, resolve all of the claims asserted in the Complaint as to all remaining defendants.

Both Consent Decrees resolve claims brought by the United States, on behalf of the United States Environmental Protection Agency (“EPA”) under Section 107 of the Comprehensive Environmental Response, Compensation, and Liability Act, 42 U.S.C. sections 9607, et. seq., related to the releases and threatened releases of hazardous substances at the Modesto Groundwater Contamination Superfund Site (“Site”) in Modesto, California.

The first proposed Consent Decree resolves claims against Defendants Stephen C. Lyon, Suzanne S. Lyon, Russell R. Tonda, and Dianne M. Tonda, and the second proposed Consent Decree resolves claims against Defendant the Estate of Shantilal Jamnadas. The proposed Consent Decrees require the defendants to reimburse the United States $1,525,000 and $650,000 respectively for past response costs.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Lyon, et al., D.J. Ref. 90-11-3-08737.

The Consent Decrees may be examined at U.S. EPA Region IX at 75 Hawthorne Street, San Francisco, California 94105. During the public comment period, the Consent Decrees may also be examined on the following Department of Justice Web site, to http://www.usdoj.gov/enrd/Consent_Decrees.html. A copy of the Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury or, if by e-mail or fax, forward a check in that amount to the Consent Decree Library at the stated address.

Maureen Katz,
Deputy Chief, Environmental Enforcement Section, Environment and Natural Resources Division.

[FR Doc. 2011-2375 Filed 2-2-11; 8:45 am]

BILLING CODE 4410-15-P